DEPARTMENT OF HEALTH AND HUMAN SERVICES

Office of the Secretary

Findings of Scientific Misconduct

AGENCY: Office of the Secretary, HHS.

ACTION: Notice.

SUMMARY: Notice is hereby given that based on an investigation by the Office of Research Integrity (ORI) and a decision by the Assistant Secretary for Health, the U.S. Public Health Service (PHS) has made a final finding of scientific misconduct in the following case:

Mr. Jin Qian, New Dimensions Research and Instrument, Inc.: Mr. Qian, Executive Manager for Corporate Planning and Research, New Dimensions Research and Instrument, Inc. (NDRI), committed scientific misconduct by plagiarizing research results and text from other investigators in an application to the National Institute of Neurological Disorders and Stroke (NINDS), National Institutes of Health (NIH), for a Small Business Innovation Research (SBIR) award, “Glass-based neurochip system,” 1 R43 NS39266-01.

Specifically, based on ORI's analysis, PHS finds that Mr. Qian: (1) Used research images and descriptions posted on the Internet to create seven figures in the application and used that material, its associated text, and text from other publications obtained from the Internet without attribution; (2) misrepresented research results in two of the plagiarized figures as exemplar applications of NDRI's proprietary technology; and (3) misrepresented his research bibliography in that application and to ORI staff during the investigation. These actions constitute falsifications in the proposing of research because their collective effect was to falsify the basis on which NIH reviewers determine whether NDRI could achieve the goals of the proposed project.

Mr. Qian has accepted the PHS finding and has entered into a Voluntary Exclusion Agreement with PHS in which he has voluntarily agreed for a three (3) year period, beginning on June 12, 2000:

(1) To exclude himself from any contracting or subcontracting with any agency of the United States Government and from eligibility for, or involvement in, nonprocurement transactions (e.g., grants and cooperative agreements) of the United States Government as defined in 45 CFR part 76 (Debarment Regulations);

(2) To exclude himself from serving in any advisory capacity to PHS, including but not limited to service on any PHS advisory committee, board, and/or peer review committee, or as a consultant.

FOR FURTHER INFORMATION CONTACT: Acting Director, Division of Investigative Oversight, Office of Research Integrity, 5515 Security Lane, Suite 700, Rockville, MD 20852, (301) 443-5330.

Chris B. Pascal,
Acting Director, Office of Research Integrity.

[FR Doc. 00-16876 Filed 7-4-00; 8:45 am]

BILLING CODE 4160-17-P